DEPARTMENT OF DEFENSE

Department of the Army

Programmatic Environmental Impact Statement for the Training Mission and Mission Support Activities at Fort Campbell, Kentucky

AGENCY: Department of the Army, DoD.

ACTION: Notice of Availability.

SUMMARY: The Department of the Army announces the availability of the Draft Programmatic Environmental Impact Statement (PEIS) pursuant to the National Environmental Policy Act of 1969 (NEPA) to analyze the potential impacts of training and mission support activities on the environmental resources of Fort Campbell and the surrounding region. The Draft PEIS analyzes the No Action Alternative, four distinct and separate Proposed Action Alternatives, and a fifth Proposed Action Alternative that combines two or more separate alternatives. The Proposed Action would meet the Senior Commander's Soldier training requirements, support the Range Complex Master Plan, and streamline the NEPA analysis process for routine range and training land actions occurring at Fort Campbell.

DATES: Comments must be received by February 27, 2015 to be considered in the preparation of the Final PEIS.

ADDRESSES: Please send written comments to Mr. Gene Zirkle, NEPA/Wildlife Program Manager, Environmental Division, Building 2159 13th Street, Fort Campbell, Kentucky 42223; or by email to gene.a.zirkle.civ@mail.mil.

FOR FURTHER INFORMATION CONTACT: Please contact Mr. Gene Zirkle, NEPA/Wildlife Program Manager, Environmental Division, 270-798-9854, during normal working business hours Monday through Friday, 7:30 a.m. to 4:00 p.m. CST; or by email to gene.a.zirkle.civ@mail.mil.

SUPPLEMENTARY INFORMATION: The Draft PEIS evaluates environmental and socioeconomic impacts of implementing proposed training and mission support activities at Fort Campbell and to the surrounding region. The resource areas considered for evaluation include air quality, airspace, biological resources, cultural resources, energy, facilities, land use, hazardous materials/waste, noise, socioeconomics, soils, traffic and transportation, water resources, and wetland resources. There would be no significant impacts; there could be moderate impacts to soils, biological resources, and water resources.

Fort Campbell covers 105,068 acres in Kentucky and Tennessee. Fort Campbell is home to the 101st Airborne Division ((Air Assault (101ABN DIV (AASLT)), the 5th Special Forces Group, 160th Special Operations Aviation Regiment (SOAR), and other tenant units. The mission of Fort Campbell is primarily to support and train the units stationed on the installation in preparation for a variety of assigned combat and combat related missions.

The purpose of the Proposed Action is to meet Senior Commander training requirements and provide forces that train on Fort Campbell with state-of-the-art and modernized equipment. The action would also implement site-specific range modernization needs contained within the Range Complex Master Plan. The action would also serve to streamline the NEPA analysis process for routine range and training land actions occurring at Fort Campbell that are currently not covered under a previous NEPA analysis or program/plan. The Draft PEIS analyzes the potential environmental impacts of the No Action Alternative—continuing existing training missions and environmental programs, and maintaining existing environmental conditions through current operational controls. The Proposed Action Alternatives include four distinct and separate alternatives and one alternative combining two or more separate alternatives:

• Alternative 1—Site-Specific Projects in Support of Soldier Training.

• Alternative 2—Implement the Use of Adaptable Use Zones to Facilitate Future Modernization and Range Facility Construction.

• Alternative 3—Streamline Review of Routine Range and Training Land Actions.

• Alternative 4—Programmatically Evaluate the Reactivation of Installation—Controlled Airspace.

• Alternative 5—Implement Two or More Proposed Action Alternatives.

Federally recognized Indian tribes, federal, state, and local agencies, organizations, and the public are invited to be involved in the Draft PEIS comment period by participating in meetings and/or submitting written comments regarding the Draft PEIS. Written comments will be accepted within 45 days of publication of the Notice of Availability in the Federal Register. Comments received will be considered in preparation of the Final PEIS. Notification of the date, time, and location for the meetings will be published locally.

The Draft PEIS is available for review in the following local libraries:

• Clarksville-Montgomery County Library; 350 Pageant Lane, Suite 404, Clarksville, TN 37042.

• Christian County Library; 101 Bethel Street, Hopkinsville, KY 42240.

• Robert F. Sink Library; Building 38, Screaming Eagle Blvd., Fort Campbell, KY 42223.

• John L. Street Library; 244 Main Street, Cadiz, KY 42211.

• Stewart County Public Library; 102 Natcor Drive, Dover, TN 37058.

The Draft PEIS can also be viewed at the following Web site: http://www.campbell.army.mil/Pages/TMMSA.aspx.

Please submit written comments to Mr. Gene Zirkle, NEPA/Wildlife Program Manager, Environmental Division, Building 2159 13th Street, Fort Campbell, KY 42223; or by email to gene.a.zirkle.civ@mail.mil. Mr. Zirkle may be reached at 270-798-0854.

Brenda S. Bowen,
Army Federal Register Liaison Officer.

[FR Doc. 2015-00277 Filed 1-12-15; 8:45 am]

BILLING CODE 3710-08-P